NATIONAL AERONAUTICS AND SPACE ADMINISTRATION

[Notice (04-060)]

Privacy Act of 1974; Proposed Revisions to a Privacy Act System of Records

AGENCY: National Aeronautics and Space Administration (NASA).

ACTION: Notice of proposed revisions to an existing Privacy Act system of records.

SUMMARY: The National Aeronautics and Space Administration proposes to revise an existing system of records titled “Inspector General Investigations Case Files” (NASA 10IGIC), last published on December 13, 1999 (64 FR 69561). This system of records is being revised to comply with requirements established by the Homeland Security Act of 2002 (Pub. L. 107-296, Nov. 25, 2002) and to update routine uses. The new routine uses allow the disclosure of information to authorized officials within the President's Council on Integrity and Efficiency (PCIE), who are charged with the responsibility for conducting qualitative assessment reviews of OIG operations for the purpose of reporting to the President and Congress on the activities of the OIG; disclosure of information to the public under certain enumerated circumstances; and disclosure of information to the news media and the public when there is a genuine public interest or when necessary for protection from imminent threat to life or property. Minor changes are the addition of grantee employees to the categories of individuals covered by the system, addition of research misconduct and whistleblower protection investigations to the categories of records in the system, elimination of inapplicable authorities for maintenance of the system, a revision to routine use 1 to add the Office of Management and Budget and other organizations in the Executive Office of the President; removal of one subsystem manager because the position is no longer part of the Office of Inspector General as well as addition of new subsystem managers; and correcting the address for Location 16 in Appendix A.

DATES: This proposed action will be effective without further notice on July 6, 2004, unless comments are received which result in a contrary determination.

ADDRESSES: Elizabeth Richardson, Associate Counsel to the Inspector General, Office of Inspector General, National Aeronautics and Space Administration Headquarters, Washington, DC 20456-0001.

FOR FURTHER INFORMATION CONTACT: Elizabeth Richardson, Associate Counsel to the Inspector General, Office of the Inspector General, National Aeronautics and Space Administration Headquarters, Washington, DC 20546-0001, (202) 358-2548.

SUPPLEMENTARY INFORMATION: This publication is in accordance with the Privacy Act requirement that agencies publish their amended systems of records in the Federal Register when there is a revision, change, or addition. NASA's Office of Inspector General (OIG) has reviewed its systems of records notices and has determined that its record system, Inspector General Investigations Case Files (NASA 10IGIC), must be revised to add a routine use in order to comply with the Homeland Security Act of 2002. Specifically, section 812, subsection (7) of that Act reads as follows: “To ensure the proper exercise of the law enforcement powers authorized by this subsection, the Offices of Inspector General described under paragraph (3) shall, not later than 180 days after the date of enactment of this subsection, collectively enter into a memorandum of understanding to establish an external review process for ensuring that adequate internal safeguards and management procedures continue to exist within each Office and within any Office that later receives an authorization under paragraph (2). The review process shall be established in consultation with the Attorney General, who shall be provided with a copy of the memorandum of understanding that establishes the review process. Under the review process, the exercise of the law enforcement powers by each Office of Inspector General shall be reviewed periodically by another Office of Inspector General or by a committee of Inspectors General. The results of each review shall be communicated in writing to the applicable Inspector General and to the Attorney General.” The additional routine use would allow the disclosure of information to authorized officials within the PCIE, the Department of Justice, and the Federal Bureau of Investigation, as necessary, for the purpose of conducting qualitative assessment reviews of the OIG's investigative operations to ensure that adequate internal safeguards and management procedures are maintained.

Patti F. Stockman,
NASA Privacy Act Officer.

NASA 10IGIC

System Name:

Inspector General Investigations Case Files.

Security Classification:

Some of the material contained in the system has been classified in the interests of national security pursuant to Executive Order 11652.

System Location:

Locations 1 through 11, 14, 16 and 17 as set forth in Appendix A.

Categories of Individuals Covered By the System:

Current and former employees of NASA, contractors, and subcontractors, and others whose actions have affected NASA.

Categories of Records in the System:

Case files pertaining to matters including, but not limited to, the following classifications of cases: (1) Fraud against the Government, (2) theft of Government property, (3) bribery, (4) lost or stolen lunar samples, (5) misuse of Government property, (6) conflict of interest, (7) waiver of claim for overpayment of pay, (8) leaks of Source Evaluation Board information; (9) improper personal conduct, (10) irregularities in awarding contracts; (11) computer crimes; (12) research misconduct; and (13) whistleblower protection under the Federal Acquisition Simplification Act and the Federal Acquisition Regulation.

Authority for Maintenance of the System:

42 U.S.C. 2473; 44 U.S.C. 3101; 5 U.S.C. Appendix 3.

Purpose(s):

Information in this system of records is collected in the course of investigating alleged crimes and other violations of law or regulation that affect NASA. The information is used by prosecutors, Agency managers, law enforcement agencies, Congress, NASA contractors, and others to address the crimes and other misconduct discovered during investigations.

Routine Uses of Records Maintained in the System, Including Categories of Users and the Purposes of Such Uses:

The following are routine uses: (1) Responding to the White House, the Office of Management and Budget, and other organizations in the Executive Office of the President regarding matters inquired of; (2) disclosure to a congressional office from the record of an individual in response to a written inquiry from the congressional office made at the request of that individual; (3) providing data to Federal intelligence elements; (4) providing data to any source from which information is requested in the course of an investigation, to the extent necessary to identify the individual, inform the source of the nature and purpose of the investigation, and to identify the type of information requested; (5) providing personal identifying data to Federal, State, local, or foreign law enforcement representative seeking confirmation of identity of persons under investigations; (6) disclosing, as necessary, to a contractor, subcontractor, or grantee firm or institution, to the extent that the disclosure is in NASA's interest and is relevant and necessary in order that the contractor, subcontractor, or grantee is able to take administrative or corrective action; (7) disclosing to any official (including members of the President's Council on Integrity and Efficiency and staff and authorized officials of the Department of Justice and Federal Bureau of Investigation) charged with the responsibility to conduct qualitative assessment reviews of internal safeguards and management procedures employed in OIG operations; (8) disclosing to members of the President's Council on Integrity and Efficiency for the preparation of reports to the President and Congress on the activities of the Inspectors General; (9) disclosing to the public when: the matter under investigation has become public knowledge, or when the Inspector General determines that such disclosure is necessary to preserve confidence in the integrity of the OIG investigative process, or to demonstrate the accountability of NASA officers, or employees, or other individuals covered by this system, unless the Inspector General determines that disclosure of the specific information in the context of a particular case would constitute an unwarranted invasion of personal privacy; (10) disclosing to the news media and public when there exists a legitimate public interest (e.g., to provide information on events in the criminal process, such as indictments), or when necessary for protection from imminent threat to life or property; (11) standard routine uses 1 through 4 inclusive as set forth in Appendix B.

Policies and Practices for Storing, Retrieving, Accessing, Retaining, and Disposing of Records in the System:

Storage:

Hard-copy documents and electronic media.

Retrievability:

Information is retrieved by name of the individual.

Safeguards:

Information is kept in locked cabinets and in secured vaults and computer rooms. Information stored on computers is on a restricted-access server and is protected by an official password and user identification. Access is limited to Inspector General personnel with an official need to know.

Retention and Disposal:

Records are maintained in Agency files and destroyed in accordance with NASA Procedures and Guidelines (NPR) 1441.1, NASA Records Retention Schedules, Schedule 9. Files containing information of an investigative nature but not related to a specific investigation are destroyed in accordance with NPR 1441.1. Significant case files are scheduled for disposition with the National Archives and Records Administration when closed. All other case files are destroyed 10 years after file is closed.

System Manager(s) and Address:

Assistant Inspector General for Investigations, Location 1.

Subsystem Managers: Special and Resident Agents in Charge, Location 2, 4 through 11 inclusive, 14, 16, and 17 as set forth in Appendix A.

Notification Procedure:

None. System is exempt (see below).

Record Access Procedures:

None. System is exempt (see below).

Contesting Record Procedures:

None. System is exempt (see below).

Record Source Categories:

Exempt.

Exemptions Claimed for the System:

(1) The Inspector General Investigations Case Files systems of records is exempt from any part of the Privacy Act (5 U.S.C. 552a), EXCEPT the following subsections: (b) relating to conditions of disclosure; (c)(1) and (2) relating to keeping and maintaining a disclosure accounting; (e)(4)(A)-(F) relating to publishing a system notice setting forth name, location, categories of individuals and records, routine uses, and policies regarding storage, retrievability, access controls, retention and disposal of the records; (e)(6), (7), (9), (10), and (11) relating to dissemination and maintenance of records; (i) relating to criminal penalties. This exemption applies to those records and information contained in the system of records pertaining to the enforcement of criminal laws.

(2) To the extent that there may exist noncriminal investigative files within this system of records, the Inspector General Investigations Case Files system of records is exempt from the following subsections of the Privacy Act (5 U.S.C. 552a): (c)(3) relating to access to disclosure accounting, (d) relating to access to reports, (e)(1) relating to the type of information maintained in the records; (e)(4)(G), (H), and (I) relating to publishing the system notice information as to agency procedures for access and amendment and information as to the categories of sources of records, and (f) relating to developing agency rules for gaining access and making corrections.

The determination to exempt this system of records has been made by the Administrator of NASA in accordance with 5 U.S.C. 552a (j) and (k) and subpart 5 of the NASA regulations appearing in 14 CFR part 1212, for the reason that a component of the Office of Inspector General, NASA, performs as its principal function activities pertaining to the enforcement of criminal laws, within the meaning of 5 U.S.C. 552a(j)(2). * * *

Appendix A—Location Numbers and Mailing Addresses of NASA Installations at Which Records Are Located

Location 1

NASA Headquarters, National Aeronautics and Space Administration,Washington, DC 20546-0001.

Location 2

Ames Research Center, National Aeronautics and Space Administration, Moffett Field, CA 94035-1000.

Location 3

Dryden Flight Research Center, National Aeronautics and Space Administration, PO Box 273, Edwards, CA 93523-0273.

Location 4

Goddard Space Flight Center, National Aeronautics and Space Administration, Greenbelt, MD 20771-0001.

Location 5

Lyndon B. Johnson Space Center, National Aeronautics and Space Administration, Houston, TX 77058-3696.

Location 6

John F. Kennedy Space Center, National Aeronautics and Space Administration, Kennedy Space Center, FL 32899-0001.

Location 7

Langley Research Center, National Aeronautics and Space Administration, Hampton, VA 23681-2199.

Location 8

John H. Glenn Research Center at Lewis Field, National Aeronautics and Space Administration, 21000 Brookpark Road, Cleveland, OH 44135-3191.

Location 9

George C. Marshall Space Flight Center, National Aeronautics and Space Administration, Marshall Space Flight Center, AL 35812-0001.

Location 10

HQ NASA Management Office—JPL, National Aeronautics and Space Administration, 4800 Oak Grove Drive, Pasadena, CA 91109-8099.

Location 11

John C. Stennis Space Center, National Aeronautics and Space Administration, Stennis Space Center, MS 39529-6000.

Location 12

JSC White Sands Test Facility, National Aeronautics and Space Administration, PO Drawer MM, Las Cruces, NM 88004-0020.

Location 13

GRC Plum Brook Station, National Aeronautics and Space Administration, Sandusky, OH 44870.

Location 14

MSFC Michoud Assembly Facility, National Aeronautics and Space Administration, PO Box 29300, New Orleans, LA 70189.

Location 15

NASA Independent Verification and Validation Facility (NASA IV&V), 100 University Drive, Fairmont, WV 26554.

Location 16

New Jersey Post of Duty, 402 E. State Street, Suite 3036, Trenton, NJ 08608.

Location 17

Western Field Office, Glenn Anderson Federal Building, 501 West Ocean Blvd., Long Beach, CA 90802-4222.

[FR Doc. 04-10400 Filed 5-6-04; 8:45 am]

BILLING CODE 7510-13-P